DEPARTMENT OF THE TREASURY

Internal Revenue Service

26 CFR Part 1

[TD 9332]

RIN 1545-BG00

Exclusions From Gross Income of Foreign Corporations; Correction

AGENCY: Internal Revenue Service (IRS), Treasury.

ACTION: Correcting amendment.

SUMMARY: This document contains corrections to final and temporary regulations (TD 9332) that were published in the Federal Register on Monday, June 25, 2007 (72 FR 34600) relating to the exclusion from gross income of income derived by certain foreign corporations engaged in the international operation of ships or aircraft.

DATES: The correction is effective August 13, 2007.

FOR FURTHER INFORMATION CONTACT: Patricia A. Bray, (202) 622-3880 (not a toll-free number).

SUPPLEMENTARY INFORMATION:

Background

The final and temporary regulations that are the subject of this correction are under section 883 of the Internal Revenue Code.

Need for Correction

As published, final and temporary regulations (TD 9332) contain an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

Par. 2. Section 1.883-1 is amended by revising paragraph (h)(3) to read as follows:

§ 1.883-1 Exclusion of income from the international operation of ships or aircraft.

* * * * *

(h) * * *

(3) For further guidance, see the entry for § 1.883-1T(h)(3).

* * * * *

LaNita Van Dyke,
Chief, Publications and Regulations Branch, Legal Processing Division, Associate Chief Counsel (Procedure and Administration).

[FR Doc. E7-15271 Filed 8-10-07; 8:45 am]

BILLING CODE 4830-01-P